DEPARTMENT OF TRANSPORTATION

Federal Railroad Administration

Notice of Informational Filing

In accordance with section 236.913 of Title 49 Code of Federal Regulations (CFR), notice is hereby given that the Federal Railroad Administration (FRA) has received an informational filing from the Union Pacific Railroad Company (UP) to permit field testing of the railroad's processor-based train control systems. The informational filing is described below, including the requisite docket number where the informational filing and any related information may be found. The document is also available for public inspection; however, FRA is not accepting public comments.

Union Pacific Railroad

[Docket Number FRA-2007-27322]

UP has submitted an informational filing to FRA to permit field testing of the railroad's processor-based train control systems identified as Communications Based Train Control (CBTC) and Vital-Train Management System (V-TMS). The informational filing addresses the requirements under 49 CFR 236.913(j)(1).

Specifically, the informational filing contains a description of the CBTC/V-TMS product and an operational concepts document, pursuant to 49 CFR 236.913(j)(1). The CBTC is a locomotive-centric, non-vital system designed to be overlaid on existing methods of operation and intended to provide an improved level of safety through enforcement of authority limits, permanent speed restrictions, and temporary speed restrictions. The V-TMS is a locomotive-centric, vital train control system designed to be overlaid on existing methods of operation and intended to provide a high level of railroad safety through enforcement of authority limits, permanent speed restrictions, and temporary speed restrictions.

UP desires to commence CBTC/V-TMS field testing on or about October 1, 2007, or as soon as practicable thereafter, contingent upon FRA's acceptance and approval of the informational filing.

Interested parties are invited to review the informational filing and associated documents at the following locations:

Web site: http://dms.dot.gov. Follow the instructions for a simple search on the DOT electronic Docket Management System, using Docket No. 27322. All documents in the public docket that are associated with the informational filing are available on the Web site for inspection and copying.

DOT Docket Management Facility, 1200 New Jersey Avenue, SE., West Building Ground Floor, Room W12-140, Washington, DC, between 9 a.m. and 5 p.m., Monday through Friday, except Federal Holidays.

You may review the DOT's complete Privacy Act Statement in the Federal Register published on April 11, 2000 (Volume 65, Number 70; Pages 19477-78). The Statement may also be found at http://dms.dot.gov.

Issued in Washington, DC, on August 14, 2007.
Grady C. Cothen, Jr.,
Deputy Associate Administrator for Safety Standards and Program Development.

[FR Doc. E7-16407 Filed 8-20-07; 8:45 am]

BILLING CODE 4910-06-P